DEPARTMENT OF ENERGY

Federal Energy Regulatory Commission

[Docket No. PR04-13-000]

GulfTerra Alabama Intrastate, L.L.C.; Notice of Petition for Rate Approval

June 4, 2004.

Take notice that on May 21, 2004, GulfTerra Alabama Intrastate, L.L.C. (GTAI) filed pursuant to section 284.123(b)(2) of the Commission's regulations, a petition for rate approval requesting that the Commission approve the proposed rates as fair and equitable for firm and interruptible transmission services performed under section 311 of the Natural Gas Policy Act of 1978 (NGPA). GTAI states that it is an intrastate pipeline company providing services through its facilities located in Alabama.

Any person desiring to participate in this rate proceeding must file a motion to intervene or protest with the Federal Energy Regulatory Commission, 888 First Street, NE., Washington DC 20426, in accordance with Sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the FERRIS link. Enter the docket number excluding the last three digits I the docket number field to access the document. For assistance, call (202) 502-8222 or for TTY, (202) 502-8659. Comments, protests and interventions may be filed electronically via the Internet in lieu of paper. The Commission strongly encourages electronic filings. See 18 CFR 385.2001(1)(iii) and the instructions on the Commission's Web site under the e-Filing link.

Intervention and Protest Date: June 21, 2004.

Linda Mitry,
Acting Secretary.

[FR Doc. E4-1324 Filed 6-9-04; 8:45 am]

BILLING CODE 6717-01-P